DEPARTMENT OF ENERGY

Federal Energy Regulatory Commission

[Docket Nos. CP05-130-000, 001, 002, 003, CP05-132-000, 001, 002; Docket No. CP05-131-000, 001, 002 (Not consolidated)]

Dominion Cove Point LNG, L.P.; Dominion Transmission, Inc.; Notice of Technical Conference

July 28, 2008.

On July 18, 2008, the United States Court of Appeals for the District of Columbia issued an order ¹ vacating the orders in the underlying proceeding ² to the extent that they approve the Cove Point Expansion Project, and remanded the case to the Commission to more fully address whether, consistent with the public interest, the Cove Point Expansion Project can go forward without causing unsafe leakage. While upholding the Commission's analysis that defects in Washington Gas Light Company's (WGL) system caused the gas leaks on WGL's system in Prince George's County, Maryland, the Court found that the Commission's determination that WGL will be able to fix its facilities before the November 2008 in-service was not supported by substantial evidence. The Commission staff has determined that discussing with the parties the issues raised by the Court would assist staff in evaluating these matters.

¹ Washington Gas Light Company v. Federal Energy Regulatory Commission, Case No. 07-1015 (D.C. Cir. 2008).

² Dominion Cove Point, LNG, LP, 115 FERC ¶ 61,337 (2006), order on reh'g, 118 FERC ¶ 61,007 (2007).

Accordingly, a Technical Conference will be held at the Commission's offices in Washington, DC, on Wednesday, August 6, 2008, commencing at 10 a.m., in order that the parties and the Commission Staff can discuss whether and when the Cove Point Expansion Project can go forward without causing unsafe leakage consistent with the public interest. Participants at the conference should come prepared to discuss all safety-related concerns, and remedial measures taken or to be taken so that WGL's system can safely accommodate regasified LNG.

As part of this discussion, participants should be prepared to provide information regarding WGL's inability to provide safe and reliable services to its customers as a result of the proposed increased amounts of natural gas from Cove Point's LNG import terminal into Cove Point's pipeline and interconnecting pipelines and delivered to WGL. Also, WGL and Dominion Cove Point, LNG, LP should be prepared to provide information which shows the progress and projected progress that they have made to resolve any such gas quality or safety and reliability issues.

FERC conferences are accessible under section 508 of the Rehabilitation Act of 1973. For accessibility accommodations please send an e-mail to accessibility@ferc.gov or call toll free (866) 208-3372 (voice) or (202) 208-1659 (TTY), or send a fax to (202) 208-2106 with the required accommodations.

Kimberly D. Bose,
Secretary.

[FR Doc. E8-17881 Filed 8-4-08; 8:45 am]

BILLING CODE 6717-01-P